NATIONAL ARCHIVES AND RECORDS ADMINISTRATION

[NARA-22-0012; NARA-2022-053]

Records Schedules; Notice of Withdrawal

AGENCY: National Archives and Records Administration (NARA).

ACTION: Notice; withdrawal.

SUMMARY: On June 9, 2022, the National Archives and Records Administration (NARA) published a Federal Register notice to allow public comment on the records schedules listed at the end of this notice. The notice is hereby withdrawn.

DATES: The document published at 87 FR 35249 on June 9, 2022, is withdrawn as of July 14, 2022.

FOR FURTHER INFORMATION CONTACT: Kimberly Richardson, Regulatory and External Policy Program Manager, by email at regulation_comments@nara.gov. For information about records schedules, contact Records Management Operations by email at request.schedule@nara.gov or by phone at 301-837-1799.

SUPPLEMENTARY INFORMATION:

Public Comment Procedures

We publish notice of records schedules in which agencies propose to dispose of records they no longer need to conduct agency business. We invite public comments on these records schedules, as required by 44 U.S.C. 3303a(a), and list the schedules at the end of this notice by agency and subdivision requesting disposition authority.

After the records schedule notice was published on June 9, 2022, at 87 FR 35249, several clerical errors were noticed. Primarily the date for accepting comments was erroneously listed as June 8, 2022. The correction to that date inadvertently truncated the comment period from 45 days to 40 days. And lastly, schedule DAA-0566-2022-0008 had a type in the file name. Due to these multiple errors this notice will be withdrawn and reposted as soon as possible in a new notice, and allowing the full 45-day comment period for the public to submit comments.

Schedules Withdrawn

1. Department of the Air Force, Agency-wide, Financial Management (65 Series)—Financial Management-Auditing Records (DAA-AFU-2021-0005).

2. Department of Commerce, National Oceanic and Atmospheric Administration, Coastal Nonpoint Pollution Control Programs Records (DAA-0370-2022-0002).

3. Department of Homeland Security, U.S. Citizenship and Immigration Services, I-194 Application for Entrepreneur Parole Records (DAA-0566-2022-0008).

4. Department of Transportation, Federal Aviation Administration, Pilot Record Database (DAA-0237-2021-0023).

5. Central Intelligence Agency, Agency-wide, Global Trade Patterns (DAA-0263-2021-0012).

6. Central Intelligence Agency, Agency-wide, Audit Logs (DAA-0263-2022-0003).

7. Federal Trade Commission, Office of the Secretary, Correspondence Records (DAA-0122-2022-0001).

8. National Aeronautics and Space Administration, Agency Wide, Protective Services (DAA-0255-2022-0003).

Laurence Brewer,
Chief Records Officer for the U.S. Government.

[FR Doc. 2022-15016 Filed 7-13-22; 8:45 am]

BILLING CODE 7515-01-P